DEPARTMENT OF HOUSING AND URBAN DEVELOPMENT

[Docket No. FR-5482-N-02]

Notice of Submission of Proposed Information Collection to OMB; Fair Housing Initiatives Program Grant Application Testing Training

AGENCY: Office of the Chief Information Officer, HUD.

ACTION: Notice of proposed information collection.

SUMMARY: The proposed information collection requirement described below will be submitted to the Office of Management and Budget (OMB) for review and approval, as required by the Paperwork Reduction Act of 1995. The Department is soliciting public comments on the subject proposal.

This is a request for approval to provide technical assistance (training) to promote a greater and more consistent use to Testing and development of consistent Testing Methodologies among FHIP grantees.

DATES: Comments due on or before: March 28, 2011.

ADDRESSES: Interested persons are invited to submit comments regarding this proposal. Comments must be received within 60 days from the date of this Notice. Comments should refer to the proposal by name and/or OMB Control Number, and should be sent to: HUD Desk Officer, Office of Management and Regulatory Affairs, Office of Management and Budget, New Executive Office Building, Washington, DC 20503, e-mail OIRA_Submission@OMB.EOP.GOV.

FOR FURTHER INFORMATION CONTACT: Myron P. Newry, Director, FHIP Support Division, Office of Programs, Room 5230, 451 Seventh Street, SW., Washington, DC 20410-2000; e-mail myron.p.newry@hud.gov; telephone number (202) 708-2215 (this is not a toll-free number). A telecommunications device (TTY) for hearing and speech impaired persons is available at 1-800-877-8339 (this is a toll-free number).

SUPPLEMENTARY INFORMATION: The Department is submitting this proposed information collection requirement to OMB for processing, as described below.

This notice is soliciting comments from members of the public and affected agencies concerning the proposed information collection in order to: (1) Evaluate whether the proposed information collection is necessary for the proper performance of the functions of the agency, including whether the information will have practical utility; (2) Evaluate the accuracy of the agency's estimate of the proposed collection of information; (3) Enhance the quality, utility and clarity of the information which must be collected; and (4) Minimize the burden of the information collection on those who are to respond, including the use of appropriate automated collection techniques or other forms of information technology, e.g., electronic transmission of data.

Title of Regulation: 24 CFR Part 125, Fair Housing Initiatives Program.

OMB Control Number, if applicable: To be assigned.

Description of information collection: The proposed information collection is intended to provide consistency in testing and testing methodologies. In addition, it will entail the creation of a course to train coordinators at fair housing organizations nationwide on paired testing. Participants will learn consistent methodologies for rental tests, home buying tests, and lending tests for race, familial status, disability, and national origin. The course will cover both in-person and telephone testing. With respect to methodology the course will cover, at minimum, testers training, creating tester profiles, proper and consistent procedures for structuring tests, producing tester reports, and debriefing testers.

Agency form number(s), if applicable: HUD forms have been identified in the Department's General Section.

Members of affected public: Qualified Fair Housing Organizations (QFHOs) Fair Housing Organizations (FHOs); public or private non-profit organizations or institutions and other public or private entities that are working to prevent or eliminate discriminatory housing practices; State and local governments; and Fair Housing Assistance Program Agencies.

Estimation of the total numbers of hours needed to prepare the information collection including the number of respondents, frequency of response, and hours of response: An estimation of the total number of hours needed to prepare the information collection is 4,793, the likely number of respondents is 50, with a frequency response of 4 per annum.

Status of the proposed information collection: Proposed new collection.

Authority: The Paperwork Reduction Act of 1995, 44 U.S.C. Chapter 35, as amended.

Dated: January 19, 2011.
Myron P. Newry,
Director, FHIP Support Division, Office of Fair Housing and Equal Opportunity.

[FR Doc. 2011-1670 Filed 1-25-11; 8:45 am]

BILLING CODE 4210-67-P